DEPARTMENT OF COMMERCE

International Trade Administration

[A-583-844]

Narrow Woven Ribbons With Woven Selvedge From Taiwan: Rescission, in Part, of Antidumping Duty Administrative Review; 2013-2014

AGENCY: Enforcement and Compliance, International Trade Administration, Department of Commerce.

DATES: Effective date: April 14, 2015.

FOR FURTHER INFORMATION CONTACT: Alice Maldonado or David Crespo, AD/CVD Operations, Office II, Enforcement and Compliance, U.S. Department of Commerce, 14th Street and Constitution Avenue NW., Washington, DC 20230; telephone: (202) 482-4682 and (202) 482-3693, respectively.

SUPPLEMENTARY INFORMATION:

Background

On September 1, 2010, the Department of Commerce (Department) published in the Federal Register the antidumping duty order on narrow woven ribbons with woven selvedge (narrow woven ribbons) from Taiwan.¹ On September 2, 2014, the Department published a notice of opportunity to request an administrative review of the antidumping duty order, covering the period September 1, 2013, through August 31, 2014.² On September 30, 2014, the Department received a timely request for an antidumping duty administrative review from the petitioner, Berwick Offray LLC, and its wholly-owned subsidiary Lion Ribbon Company, Inc. (the petitioner), for the following companies: (1) A-Madeus Textile Ltd. (A-Madeus); (2) Cheng Hsing Ribbon Factory (Cheng Hsing); (3) Fujian Rongshu Industry Co., Ltd. (Fujian Rongshu); (4) Guangzhou Complacent Weaving Co., Ltd. (Guangzhou Complacent); (5) Hen Hao Trading Co. Ltd. a.k.a. Taiwan Tulip Ribbons and Braids Co. Ltd. (Hen Hao); (6) King Young Enterprises Co., Ltd. (King Young); (7) Roung Shu Industry Corporation (Roung Shu); (8) Xiamen Especial Industrial Co., Ltd. (Xiamen Especial); (9) Xiamen Yi He Textile Co., Ltd. (Xiamen Yi He); (10) L'Emballage Tout; (11) Rubans G A R Inc (Les) (Rubans); (12) Bon-Mar Textiles; (13) Antonio Proietti Int Inc (Antonio Proietti Int); and (14) Imprimerie Mikan Inc. (Imprimerie Mikan).

¹ See Narrow Woven Ribbons With Woven Selvedge From Taiwan and the People's Republic of China: Antidumping Duty Orders, 75 FR 53632 (September 1, 2010).

² See Antidumping or Countervailing Duty Order, Finding, or Suspended Investigation; Opportunity To Request Administrative Review, 79 FR 51958 (September 2, 2014).

On October 15, 2014, the petitioner withdrew its request for an administrative review of the following companies: (1) L'Emballage Tout; (2) Rubans; (3) Bon-Mar Textiles; (4) Antonio Proietti Int; and (5) Imprimerie Mikan. On October 30, 2014, in accordance with section 751(a) of the Tariff Act of 1930, as amended (the Act), the Department published in the Federal Register a notice of initiation of administrative review with respect to the remaining nine companies.³

³ See Initiation of Antidumping and Countervailing Duty Administrative Reviews, 79 FR 64565, 64567 (October 30, 2014).

On January 27, 2015, the petitioner withdrew its request with respect to King Young. On January 28, 2015, the petitioner withdrew its request for an administrative review of the following companies: (1) Cheng Hsing; (2) Fujian Rongshu; (3) Guangzhou Complacent; (4) Hen Hao; (5) Xiamen Especial; and (6) Xiamen Yi He.

Rescission, in Part

Pursuant to 19 CFR 351.213(d)(1), the Secretary will rescind an administrative review, in whole or in part, if a party that requested the review withdraws the request within 90 days of the date of publication of the notice of initiation of the requested review. The petitioner's withdrawals of its requests were submitted within the 90-day period and, thus, are timely. Because the petitioner's withdrawals of its requests for an antidumping duty administrative review are timely, and because no other party requested a review of the companies listed above, in accordance with 19 CFR 351.213(d)(1), we are rescinding this administrative review, in part, with respect to the following companies: (1) Cheng Hsing; (2) Fujian Rongshu; (3) Guangzhou Complacent; (4) Hen Hao; (5) Xiamen Especial; (6) Xiamen Yi He; and (7) King Young.

Assessment

The Department will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Act, and 19 CFR 351.213(d)(4).

Dated: April 8, 2015.
Gary Taverman,
Associate Deputy Assistant Secretary for Antidumping and Countervailing Duty Operations.

[FR Doc. 2015-08593 Filed 4-13-15; 8:45 am]

BILLING CODE 3510-DS-P